DEPARTMENT OF COMMERCE

International Trade Administration

[A-533-852, A-523-801, A-520-805, A-552-811]

Circular Welded Carbon-Quality Steel Pipe From India, the Sultanate of Oman, the United Arab Emirates, and the Socialist Republic of Vietnam: Postponement of Preliminary Determinations of Antidumping Duty Investigations

AGENCY: Import Administration, International Trade Administration, Department of Commerce.

DATES: Effective Date: March 16, 2012.

FOR FURTHER INFORMATION CONTACT: Steve Bezirganian or Robert James, Office 7, AD/CVD Operations, Import Administration, International Trade Administration, U.S. Department of Commerce, 14th Street and Constitution Avenue NW, Washington, DC 20230, telephone: (202) 482-1131 or (202) 482-0649, respectively.

SUPPLEMENTARY INFORMATION:

Background

On November 22, 2011, the Department of Commerce (the Department) published in the Federal Register the initiation of the antidumping duty investigations of circular welded carbon-quality steel pipe and tube from India, the Sultanate of Oman (Oman), the United Arab Emirates (UAE), and the Socialist Republic of Vietnam (Vietnam). See Circular Welded Carbon-Quality Steel Pipe From India, the Sultanate of Oman, the United Arab Emirates, and the Socialist Republic of Vietnam: Initiation of Antidumping Duty Investigations, 76 FR 72164 (November 22, 2011). The current deadline for the preliminary determinations of these investigations is April 3, 2012.

Periods of Investigations

The period of investigation for the India, Oman, and UAE investigations is October 1, 2010, through September 30, 2011. The period of investigation for the Vietnam investigation is April 1, 2011, through September 30, 2011.

Postponement of Preliminary Determinations

Section 733(b)(1)(A) of the Tariff Act of 1930, as amended (the Act), requires the Department to make a preliminary determination no later than 140 days after the initiation of the investigation.

On February 29, 2012, petitioners JMC Steel Group and Allied Tube and Conduit, made a timely request pursuant to 19 CFR 351.205(e) for a postponement of the preliminary determinations to provide the Department with additional time to collect and analyze information required for those determinations. No interested party commented on this request for postponement.

For the reason stated above and because there are no compelling reasons to deny the request, the Department is postponing by 50 days to May 23, 2012, the deadline for its preliminary determinations of these investigations pursuant to section 733(c)(1)(A) of the Act and 19 CFR 351.205(e) and (f). In accordance with section 735(a)(1) of the Act, the deadline for the final determination of these antidumping duty investigations will continue to be 75 days after the date of the preliminary determinations, unless extended.

This notice is issued and published in accordance with section 733(c)(2) of the Act and 19 CFR 351.205(f)(1).

Dated: March 12, 2012.
Paul Piquado,
Assistant Secretary for Import Administration.

[FR Doc. 2012-6462 Filed 3-15-12; 8:45 am]

BILLING CODE 3510-DS-P